DEPARTMENT OF THE INTERIOR

National Indian Gaming Commission

Fee Rate and Fingerprint Fees

AGENCY: National Indian Gaming Commission, Department of the Interior.

ACTION: Notice.

SUMMARY: Notice is hereby given that the National Indian Gaming Commission has adopted its annual fee rates of 0.00% for tier 1 and 0.062% (.00062) for tier 2, which remain the same as current fee rates. The tier 2 annual fee rate represents the lowest fee rate adopted by the Commission since 2010. These rates shall apply to all assessable gross revenues from each gaming operation under the jurisdiction of the Commission. If a tribe has a certificate of self-regulation, the fee rate on Class II revenues shall be 0.031% (.00031) which is one-half of the annual fee rate. The fee rates being adopted here are effective November 1, 2018, and will remain in effect until new rates are adopted.

The National Indian Gaming Commission has also adopted its fingerprint processing fees of $18 per card effective November 1, 2018. These fees remain the same as current fingerprint processing fees.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission.

Pursuant to 25 CFR 514, the Commission must also review regularly the costs involved in processing fingerprint cards and set a fee based on fees charged by the Federal Bureau of Investigation and costs incurred by the Commission. Commission costs include Commission personnel, supplies, equipment costs, and postage to submit the results to the requesting tribe.

Dated: October 26, 2018.
Jonodev Osceola Chaudhuri,
Chairman.
Dated: October 26, 2018.
Kathryn C. Isom-Clause,
Vice Chair.
Dated: October 26, 2018.
E. Sequoyah Simermeyer,
Associate Commissioner.

[FR Doc. 2018-24219 Filed 11-5-18; 8:45 am]

BILLING CODE 7565-01-P